NUCLEAR REGULATORY COMMISSION

10 CFR Chapter I

[NRC-2022-0039]

Dedication of Commercial-Grade Digital Instrumentation and Control Items for Use in Nuclear Power Plants

AGENCY: Nuclear Regulatory Commission.

ACTION: Regulatory guide; issuance.

SUMMARY: The U.S. Nuclear Regulatory Commission (NRC) is issuing a new Regulatory Guide (RG) 1.250, “Dedication of Commercial-Grade Digital Instrumentation and Control Items for Use in Nuclear Power Plants.” RG 1.250 provides guidance that the staff of the NRC considers acceptable to meet, in part, regulatory requirements for the dedication of commercial-grade digital instrumentation and control items (I&C) for use in nuclear power plant safety applications.

DATES: RG 1.250 is available on November 3, 2022.

ADDRESSES: Please refer to Docket ID NRC-2022-0039 when contacting the NRC about the availability of information regarding this document. You may obtain publicly available information related to this document using any of the following methods:

• Federal Rulemaking Website: Go to https://www.regulations.gov and search for Docket ID NRC-2022-0039. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's Public Document Room (PDR), Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

RG 1.250 and the regulatory analysis may be found in ADAMS under Accession Nos. ML22153A408 and ML22003A181, respectively.

Regulatory guides are not copyrighted, and NRC approval is not required to reproduce them.

FOR FURTHER INFORMATION CONTACT: Michael Eudy, Office of Nuclear Regulatory Research, telephone: 301-415-3104, email: Michael.Eudy@nrc.gov and Dinesh Taneja, Office of Nuclear Reactor Regulation, telephone: 301-415-0011, email: Dinesh.Taneja@nrc.gov. Both are staff of the U.S. Nuclear Regulatory Commission, Washington, DC 20555-0001.

SUPPLEMENTARY INFORMATION:

I. Discussion

The NRC is issuing a new guide in the NRC's “Regulatory Guide” series. This series was developed to describe methods that are acceptable to the NRC staff for implementing specific parts of the agency's regulations, to explain techniques that the staff uses in evaluating specific issues or postulated events, and to describe information that the staff needs in its review of applications for permits and licenses.

RG 1.250 was issued with a temporary identification of Draft Regulatory Guide, DG-1402 (ADAMS Accession No. ML22003A180).

II. Additional Information

The NRC published a notice of the availability of DG-1402 in the Federal Register on March 18, 2022 (87 FR 15456) for a 30-day public comment period. The public comment period closed on April 18, 2022. Public comments on DG-1402 and the staff responses to the public comments are available under ADAMS under Accession No. ML22153A416.

RG 1.250 endorses, with clarifications, Nuclear Energy Institute (NEI) 17-06, “Guidance on Using IEC 61508 SIL Certification to Support the Acceptance of Commercial Grade Digital Equipment for Nuclear Safety Related Applications,” Revision 1, issued December 2021 (ADAMS Accession No. ML21337A380).

III. Congressional Review Act

This RG is a rule as defined in the Congressional Review Act (5 U.S.C. 801-808). However, the Office of Management and Budget has not found it to be a major rule as defined in the Congressional Review Act.

IV. Backfitting, Forward Fitting, and Issue Finality

RG 1.250 describes a method that the NRC staff considers acceptable to implement regulatory requirements for dedication of commercial-grade I&C items as basic components. Issuance of this RG does not constitute backfitting as defined in § 50.109 of title 10 of the Code of Federal Regulations (10 CFR) (the Backfit Rule); forward fitting as defined in Management Directive (MD) 8.4, “Management of Backfitting, Forward Fitting, Issue Finality, and Information Requests;” and does not affect the issue finality of any approval under 10 CFR part 52. As discussed in the “Implementation” section of this RG, the NRC has no intention to impose this RG as a new requirement.

V. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: October 27, 2022.
For the Nuclear Regulatory Commission.
Meraj Rahimi,
Chief, Regulatory Guide and Programs Management Branch, Division of Engineering, Office of Nuclear Regulatory Research.

[FR Doc. 2022-23737 Filed 11-2-22; 8:45 am]

BILLING CODE 7590-01-P